ENVIRONMENTAL PROTECTION AGENCY

[FRL-8513-5]

Good Neighbor Environmental Board

AGENCY: Environmental Protection Agency (EPA).

ACTION: Notification of Public Advisory Committee Teleconference Meeting.

SUMMARY: Pursuant to the Federal Advisory Committee Act, Public Law 92-463, notice is hereby given that the Good Neighbor Environmental Board (GNEB) will meet in a public teleconference on January 28, 2008, from 12 p.m. to 1:30 p.m. Eastern Time. The meeting will be hosted out of the main conference room, Office of Cooperative Environmental Management (OCEM), U.S. Environmental Protection Agency (EPA) East Building, 1201 Constitution Ave., NW., Washington, DC 20004. The meeting is open to the public; however, due to limited space, seating will be on a registration-only basis. For further information regarding the teleconference meeting, please contact the individuals listed below.

Background: GNEB is a federal advisory committee chartered under the Federal Advisory Committee Act, Public Law 92-463. GNEB provides advice and recommendations to the President and Congress on environmental and infrastructure issues along the U.S. border with Mexico.

Purpose of Meeting: After extensive research, analysis, and outreach, GNEB has prepared its final draft Eleventh Report with recommendations on how the federal government can most effectively support communities located along the U.S. border adjoining Mexico with preparation for, and the management of, natural disasters. The purpose of this teleconference is for the Board to conduct a final review and decide whether to approve its draft report.

Availability of Materials: If you wish to receive a copy of the draft report, please contact Designated Federal Officer (DFO), Elaine Koerner, at the address below.

SUPPLEMENTARY INFORMATION: Members of the public wishing to gain access to the conference room on the day of the meeting must contact Elaine Koerner, DFO for GNEB, U.S. Environmental Protection Agency (1601M), OCEM, EPA East Building, 1201 Constitution Ave., NW., Washington, DC 20004; telephone/voice mail at (202) 564-2586 or via e-mail at koerner.elaine@epa.gov. If you wish to make oral comments or to submit written comments to the Board, please contact DFO Koerner by January 21, 2008.

General Information: Additional information concerning the GNEB can be found on its web site at http://www.epa.gov/ocem/gneb.

Meeting Access: For information on access or services for individuals with disabilities, please contact Elaine Koerner at 202-564-2586. To request accommodation of a disability, please contact Elaine Koerner, preferably at least 10 days prior to the meeting, to give EPA as much time as possible to process your request.

Dated: December 26, 2007.
Elaine Koerner,
Designated Federal Officer.

[FR Doc. E7-25642 Filed 1-3-08; 8:45 am]

BILLING CODE 6560-50-P